DEPARTMENT OF COMMERCE

International Trade Administration

Exporters' Textile Advisory Committee; Notice of Open Meeting

The Exporters' Textile Advisory Committee (ETAC) will meet on May 24, 2006. The meeting will be held at 10:00 a.m at the U.S. Department of Commerce, Main Commerce Building, Room 6029, 1401 Constitution Avenue, NW, Washington, DC.

This document amends the one published on March 28, 2006 (71 FR 15384) to include the room number, which was not available at the time of publication. All other information remains the same.

The Committee provides information on overseas requirements and regulations, works with U.S. companies to eliminate trade barriers, and promotes U.S. textile and apparel products overseas.

Tentative Agenda: Review of export data, report on conditions in the export market; update on FTA's; export expansion activities; U.S. Customs and Border Protection's “Customs-Trade Partnership Against Terrorism” Initiative, and other business.

The meeting will be open to the public with a limited number of seats available. For further information call Rachel Anne Alarid at (202) 482-5154.

Dated: May 4, 2006.
James C. Leonard III,
Deputy Assistant Secretary for Textiles and Apparel.

[FR Doc. E6-7133 Filed 5-9-06; 8:45 am]

BILLING CODE 3510-DS-S